INTERNATIONAL TRADE COMMISSION

[Investigation No. 337-TA-671]

In the Matter of Certain Digital Cameras; Notice of Commission Determination Not To Review an Initial Determination Terminating the Investigation Based on the Execution of a Settlement Agreement; Termination of the Investigation

AGENCY: U.S. International Trade Commission.

ACTION: Notice.

SUMMARY: Notice is hereby given that the U.S. International Trade Commission has determined not to review an initial determination (“ID”) (Order No. 19) of the presiding administrative law judge (“ALJ”) terminating the investigation based on the execution of a settlement agreement.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On March 24, 2009, the Commission instituted an investigation under section 337 of the Tariff Act of 1930, as amended, 19 U.S.C. § 1337, based on a complaint filed by Samsung Electronics Co., Ltd. of Korea and Samsung Electronics America, Inc. of Ridgefield Park, New Jersey (collectively, “Samsung”) on February 17, 2009, and supplemented on February 27, 2009 and March 11, 2009. 74 FR 12377-78 (Mar. 24, 2009). The complaint, as supplemented, alleged violations of section 337 in the importation into the United States, the sale for importation, or the sale within the United States after importation of certain digital cameras by reason of infringement of several claims of United States Patent Nos. 5,731,852 and 6,229,695. The complaint named Eastman Kodak Company of Rochester, New York (“Kodak”) as respondent.

On January 8, 2010, Samsung and Kodak filed a joint motion to terminate the investigation in its entirety based on the execution of a settlement agreement. On January 20, 2010, the Commission investigative attorney filed a response in support of the motion to terminate the investigation.

On January 21, 2010, the ALJ issued the subject ID (Order No. 19) terminating the investigation. None of the parties petitioned for review of the ID. The Commission has determined not to review the ID. Accordingly, this investigation is terminated.

The authority for the Commission's determination is contained in section 337 of the Tariff Act of 1930, as amended (19 U.S.C. 1337), and in section 210.42(h) of the Commission's Rules of Practice and Procedure (19 CFR 210.42(h)).

By order of the Commission.
Issued: February 12, 2010.
Marilyn R. Abbott,
Secretary to the Commission.

[FR Doc. 2010-3248 Filed 2-18-10; 8:45 am]

BILLING CODE 7020-02-P